SMALL BUSINESS ADMINISTRATION

Senior Executive Service and Senior Level: Performance Review Board Members

AGENCY: U.S. Small Business Administration.

ACTION: Notice of Members for the Performance Review Board.

SUMMARY: Title 5 U.S.C. 4314(c)(4) requires each agency to publish notification of the appointment of individuals who may serve as members of that agency's Performance Review Board (PRB). The following individuals have been designated to serve on the PRB for the U.S. Small Business Administration.

Members

1. Victor Parker (Chair), Deputy Associate Administrator, Office of Field Operations

2. Beatrice Hidalgo, Associate Administrator, Office of Government Contracting and Business Development

3. John Miller, Deputy Associate Administrator, Office of Capital Access

4. Jason Bossie, Director of Program Performance, Analysis, and Evaluation, Office of the Chief Financial Officer

5. Gabriel Esparza, Associate Administrator, Office of International Trade

6. George Holman, Associate Administrator, Office of Congressional and Legislative Affairs

7. Yvette Collazo-Reyes, Deputy Associate Administrator, Office of Entrepreneurial Development

Isabella C. Guzman,
Administrator.

[FR Doc. 2022-20694 Filed 9-22-22; 8:45 am]

BILLING CODE 8026-09-P